DEPARTMENT OF THE INTERIOR

Bureau of Land Management

[OR-030-1020-XX-028H; HAG 04-0230]

Meeting Notice for the John Day/Snake Resource Advisory Council

AGENCY: Bureau of Land Management (BLM), Vale District, Interior.

ACTION: Meeting notice for the John Day/Snake Resource Advisory Council.

SUMMARY: The John Day/Snake Resource Advisory Council will meet on Tuesday, September 14, 2004, in the Fir and Cedar meeting rooms at the Malheur National Forest Office, 431 Patterson Bridge Road, John Day, Oregon 97845.

The meeting may include such topics as, Forest Service Weeds Plan. There will also be subcommittee updates on OHV, Noxious Weeds, Planning, Sage Grouse, and other matters as may reasonably come before the board.

There will be a field trip from approximately 8 a.m. to 2 p.m. on Wednesday, September 15, 2004, location to be determined at a later date. Any public that would like to join in the field trip will need to provide their own transportation.

The entire meeting is open to the public. For a copy of the information to be distributed to the Council members, please submit a written request to the Vale District Office 10 days prior to the meeting. Public comment is scheduled for 11 a.m. to 11:15 a.m., Pacific Time (PT) on September 14, 2004.

FOR FURTHER INFORMATION CONTACT: Additional information concerning the John Day/Snake Resource Advisory Council may be obtained from Peggy Diegan, Management Assistant/Webmaster, Vale District Office, 100 Oregon Street, Vale, OR 97918 (541) 473-3144, or email Peggy_Diegan@or.blm.gov.

Dated: July 22, 2004.
David R. Henderson,
District Manager.

[FR Doc. 04-17216 Filed 7-28-04; 8:45 am]

BILLING CODE 4310-33-P